NATIONAL FOUNDATION ON THE ARTS AND THE HUMANITIES

Meetings of Humanities Panel

AGENCY: National Endowment for the Humanities, National Foundation on the Arts and the Humanities.

ACTION: Notice of meetings.

SUMMARY: Pursuant to section 10(a)(2) of the Federal Advisory Committee Act (5 U.S.C. App.), notice is hereby given that 22 meetings of the Humanities Panel will be held during August 2012, as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See Supplementary Information section for meeting room numbers.

FOR FURTHER INFORMATION CONTACT: Lisette Voyatzis, Committee Management Officer, 1100 Pennsylvania Ave. NW., Room, 529, Washington, DC 20506, or call (202) 606-8322. Hearing-impaired individuals are advised that information on this matter may be obtained by contacting the National Endowment for the Humanities' TDD terminal at (202) 606-8282.

SUPPLEMENTARY INFORMATION:

Meetings

1. Date: August 1, 2012.

Time: 8:30 a.m. to 5 p.m.

Room: 315.

This meeting will discuss applications on the subject of Anthropology and New World Archaeology for the Fellowships for University Teachers grant program, submitted to the Division of Research Programs.

2. Date: August 2, 2012.

Time: 8:30 a.m. to 5 p.m.

Room: 315.

This meeting will discuss applications on the subject of European History for the Fellowships for University Teachers grant program, submitted to the Division of Research Programs.

3. Date: August 2, 2012.

Time: 8:30 a.m. to 5 p.m.

Room: 415.

This meeting will discuss applications on the subject of European History for the Fellowships for University Teachers grant program, submitted to the Division of Research Programs.

4. Date: August 2, 2012.

Time: 8:30 a.m. to 5 p.m.

Room: 421.

This meeting will discuss applications on the subject of Art and Anthropology for the Challenge Grants grant program, submitted to the Office of Challenge Grants.

5. Date: August 3, 2012.

Time: 8:30 a.m. to 5 p.m.

Room: 415.

This meeting will discuss applications on the subject of Sociology, Psychology and Education for the Fellowships for University Teachers grant program, submitted to the Division of Research Programs.

6. Date: August 3, 2012.

Time: 8:30 a.m. to 5 p.m.

Room: 315.

This meeting will discuss applications for the Fellowships for Advanced Research on Japan grant program, submitted to the Division of Research Programs.

7. Date: August 6, 2012.

Time: 8:30 a.m. to 5 p.m.

Room: 315.

This meeting will discuss applications on the subject of Political Science and Jurisprudence for the Fellowships for University Teachers grant program, submitted to the Division of Research Programs.

8. Date: August 6, 2012.

Time: 8:30 a.m. to 5 p.m.

Room: 415.

This meeting will discuss applications on the subject of European Literature and Studies for the Fellowships for University Teachers grant program, submitted to the Division of Research Programs.

9. Date: August 7, 2012.

Time: 8:30 a.m. to 5 p.m.

Room: 315.

This meeting will discuss applications on the subject of American Studies for the Fellowships for University Teachers grant program, submitted to the Division of Research Programs.

10. Date: August 8, 2012.

Time: 8:30 a.m. to 5 p.m.

Room: 415.

This meeting will discuss applications on the subject of American History for the Fellowships for University Teachers grant program, submitted to the Division of Research Programs.

11. Date: August 8, 2012.

Time: 8:30 a.m. to 5 p.m.

Room: 315.

This meeting will discuss applications on the subject of Asian Studies for the Fellowships for University Teachers grant program, submitted to the Division of Research Programs.

12. Date: August 9, 2012.

Time: 8:30 a.m. to 5 p.m.

Room: 415.

This meeting will discuss applications on the subject of African Studies and Middle Eastern Studies for the Fellowships for University Teachers grant program, submitted to the Division of Research Programs.

13. Date: August 9, 2012.

Time: 8:30 a.m. to 5 p.m.

Room: 315.

This meeting will discuss applications on the subject of Art History for the Fellowships for University Teachers grant program, submitted to the Division of Research Programs.

14. Date: August 14, 2012.

Time: 8:30 a.m. to 5 p.m.

Room: 315.

This meeting will discuss applications on the subject of Asian Studies for the Fellowships for University Teachers grant program, submitted to the Division of Research Programs.

15. Date: August 15, 2012.

Time: 8:30 a.m. to 5 p.m.

Room: 315.

This meeting will discuss applications on the subject of Ancient and Classical Studies and Archaeology for the Fellowships for University Teachers grant program, submitted to the Division of Research Programs.

16. Date: August 15, 2012.

Time: 8:30 a.m. to 5 p.m.

Room: 415.

This meeting will discuss applications on the subject of American Literature for the Fellowships for University Teachers grant program, submitted to the Division of Research Programs.

17. Date: August 16, 2012.

Time: 8:30 a.m. to 5 p.m.

Room: 315.

This meeting will discuss applications on the subject of Latin American Studies for the Fellowships for University Teachers grant program, submitted to the Division of Research Programs.

18. Date: August 16, 2012.

Time: 8:30 a.m. to 5 p.m.

Room: 415.

This meeting will discuss applications on the subject of Latin American Studies for the Fellowships for University Teachers grant program, submitted to the Division of Research Programs.

19. Date: August 21, 2012.

Time: 8:30 a.m. to 5 p.m.

Room: 315.

This meeting will discuss applications on the subject of Religious Studies for the Fellowships for University Teachers grant program, submitted to the Division of Research Programs.

20. Date: August 21, 2012.

Time: 8:30 a.m. to 5 p.m.

Room: 415.

This meeting will discuss applications on the subject of Religious Studies for the Fellowships for University Teachers grant program, submitted to the Division of Research Programs.

21. Date: August 22, 2012.

Time: 8:30 a.m. to 5 p.m.

Room: 315.

This meeting will discuss applications on the subject of Medieval and Renaissance Studies for the Fellowships for University Teachers grant program, submitted to the Division of Research Programs.

22. Date: August 30, 2012.

Time: 8:30 a.m. to 5 p.m.

Room: 415.

This meeting will discuss applications for the Preservation Education and Training grant program, submitted to the Division of Preservation and Access.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: July 10, 2012.
Lisette Voyatzis,
Committee Management Officer.

[FR Doc. 2012-17233 Filed 7-13-12; 8:45 am]

BILLING CODE 7536-01-P